ENVIRONMENTAL PROTECTION AGENCY

40 CFR Part 300

[FRL-7052-5]

National Oil and Hazardous Substances Pollution Contingency Plan; National Priorities List

AGENCY: Environmental Protection Agency (EPA).

ACTION: Direct final notice of deletion of the Farmers' Mutual Cooperative site from the National Priorities List (NPL).

SUMMARY: The EPA, Region VII, is publishing a direct final notice of deletion of the Farmers' Mutual Cooperative site (site) located in Hospers, Iowa, from the NPL.

The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the state of Iowa, through the Iowa Department of Natural Resources because EPA has determined that all appropriate response actions under CERCLA have been completed; and therefore, further remedial action pursuant to CERCLA is not appropriate.

DATES: This direct final deletion will be effective November 13, 2001 unless EPA receives adverse comments by October 11, 2001. If adverse comments are received, EPA will publish a timely withdrawal of the direct final deletion in the Federal Register informing the public that the deletion will not take effect.

ADDRESSES: Comments may be mailed to Catherine Barrett, Remedial Project Manager, U.S. Environmental Protection Agency, Superfund Division, 901 North 5th Street, Kansas City, KS 66101.

Information Repositories: Comprehensive information on the site is available for viewing in the Deletion Docket at the information repositories located at: U.S. EPA, Region VII, Superfund Division Records Center, 901 North 5th Street, Kansas City, KS 66101; and the Iowa Department of Natural Resources, Wallace State Office Building, 900 East Grand, Des Moines, IA 50319.

FOR FURTHER INFORMATION CONTACT: Catherine Barrett, Remedial Project Manager, U.S. Environmental Protection Agency, Superfund Division, 901 North 5th Street, Kansas City, KS 66101, fax (913) 551-7063 or 1-800-223-0425.

SUPPLEMENTARY INFORMATION:

Table of Contents

I. Introduction

II. NPL Deletion Criteria

III. Deletion Procedures

IV. Basis for Site Deletion

V. Deletion Action

I. Introduction

The EPA Region VII is publishing this direct final notice of deletion of the Farmers' Mutual Cooperative Superfund site NPL.

The EPA identifies sites that appear to present a significant risk to public health or the environment and maintains the NPL as the list of those sites. As described in the section 300.425(e)(3) of the NCP, sites deleted from the NPL remain eligible for remedial actions if conditions at a deleted site warrant such action.

Because EPA considers this action to be noncontroversial and routine, EPA is taking it without prior publication of a notice of intent to delete. This action will be effective November 13, 2001 unless EPA receives adverse comments by October 11, 2001 on this document. If adverse comments are received within the 30-day public comment period on this document, EPA will publish a timely withdrawal of this direct final deletion before the effective date of the deletion and the deletion will not take effect. The EPA will, as appropriate, prepare a response to comments and continue with the deletion process on the basis of the notice of intent to delete and the comments already received. There will be no additional opportunity to comment.

Section II of this document explains the criteria for deleting sites from the NPL. Section III discusses procedures that EPA is using for this action. Section IV discusses the Farmers' Mutual Cooperative Superfund site and demonstrates how it meets the deletion criteria. Section V states EPA's action to delete the site from the NPL unless adverse comments are received during the comment period.

II. NPL Deletion Criteria

Section 300.425 (e) of the NCP provides that releases may be deleted from the NPL where no further response is appropriate. In making a determination to delete a site from the NPL, EPA shall consider, in consultation with the state, whether any of the following criteria have been met:

i. Responsible parties or other persons have implemented all appropriate response actions required;

ii. All appropriate Fund-financed (Hazardous Substance Superfund Response Trust Fund) response under CERCLA has been implemented, and no further response action by responsible parties is appropriate; or,

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the remedy remains protective of public health and the environment. If new information becomes available which indicates a need for further action, EPA may initiate remedial actions. Whenever there is a significant release from a site deleted from the NPL, the site shall be restored to the NPL without the application of the hazard ranking system.

III. Deletion Procedures

The following procedures apply to deletion of the site:

(1) The EPA consulted with the state of Iowa on the deletion of the site from the NPL prior to developing this direct final notice of deletion.

(2) The state of Iowa concurred with deletion of the site from the NPL.

(3) Concurrently with the publication of this direct final notice of deletion, a notice of the availability of the parallel notice of intent to delete published today in the “Proposed Rules” section of the Federal Register is being published in a major local newspaper of general circulation at or near the site and is being distributed to appropriate federal, state, and local government officials and other interested parties; the newspaper notice announces the 30-day public comment period concerning the notice of intent to delete the site from the NPL.

(4) The EPA placed copies of documents supporting the deletion in the Deletion Docket at the site information repositories identified above.

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter, or revoke any individual's rights or obligations. Deletion of the site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

The following information provides EPA's rationale for deleting the site from the NPL.

Site Location

The Farmers' Mutual Cooperative site is located in Sioux County, Iowa, and is a six-acre site which lies several hundred feet east of the West Branch Floyd River in the northwestern corner of the city of Hospers.

Site History

The Farmers' Mutual Cooperative is an agricultural supply and service business now operating under a different name. Bulk fertilizer and pesticides were handled at the site until 1992. The site continues to be used for grain storage. In 1984, the state found herbicides and carbon tetrachloride in water from three shallow municipal wells located adjacent to the site.The state first restricted, then prohibited, the use of these three wells. Investigations conducted by the Farmers' Mutual Cooperative found groundwater contamination in the relatively small area between the site and the West Branch Floyd River. The herbicide contamination was the result of incidental releases during normal operations throughout the site. The carbon tetrachloride contamination of groundwater was the result of previous on-site and off-site use of carbon tetrachloride for grain fumigation. A variety of herbicides have been detected in the site groundwater including alachlor, atrazine, cyanazine, metolachlor, metribuzin, and trifluralin. Atrazine had consistently been found in concentrations above the Maximum Contaminant Level(MCL). Carbon tetrachloride was also initially found in groundwater in concentrations above MCLs; however, by 1992, carbon tetrachloride contamination had declined substantially.

Remedial Investigation and Feasibility Study (RI/FS)

In August 1986, the state of Iowa issued an Administrative Order requiring the Farmers' Mutual Cooperative to conduct a remedial investigation/feasibility study (RI/FS) to determine the nature and extent of contamination at the site and to identify alternatives for remedial action. In 1987, a Consent Order between the Farmers' Mutual Cooperative and the state of Iowa provided for groundwater investigations and completion of the RI/FS.

A remedial investigation was begun by the Farmers' Mutual Cooperative in 1986 to include the installation and sampling of four monitoring wells, surface water sampling, and soil sampling at suspected contaminant source areas. In 1989, the investigation was expanded (Phase 2) to include installation of three additional monitoring wells, sampling of all monitoring wells and the shallow city wells, and an aquifer pumping test. Phase 3 of the investigation in 1990 included installation of ten additional monitoring wells and the sampling of monitoring wells and the three shallow city wells. During 1992, Phase 4 of the investigation included thirteen soil borings in an area identified as having high levels of herbicides in groundwater and the installation and sampling of four additional groundwater monitoring wells.

The remedial investigation found that contaminants in the groundwater included volatile organic carbon compounds (VOCC) associated with grain fumigation (carbon tetrachloride and chloroform) and herbicides (alachlor, atrazine, cyanazine, metolacholor, metribuzin, and trifluralin). Carbon tetrachloride and atrazine were found in the groundwater at concentrations in excess of MCLs. Soil borings indicated that levels of contaminants in soil were not at a level which would require remediation.

Record of Decision Findings

A Record of Decision (ROD) to select a remedial action for this site was written and signed on September 29, 1992. The remedial action recommended in the ROD was natural attenuation and groundwater and surface water monitoring, with a drinking water contingency. The groundwater monitoring and surface water monitoring were required to determine the effectiveness of natural attenuation. The groundwater and surface water monitoring included the monitoring of seven groundwater wells and the sampling of the adjacent surface water, the West Branch Floyd River, at upstream and downstream locations. The drinking water contingency provided that the drinking water standards (the MCLs) for contaminants associated with the site would be achieved in the city water supply, including the shallow wells, in order that the blending of shallow and deep well water might continue. Test pumping of the shallow aquifer as prescribed in the ROD for the drinking water contingency was conducted in 1993 and 1994 and demonstrated that the Superfund contaminants of concern (carbon tetrachloride and herbicides) generally existed at levels that would allow 50 percent blending of the shallow well water with the deep well water. However, nitrate (which is not a site-related contaminant of concern), present in groundwater because of the legal application of fertilizers, was found at concentrations that would limit blending. Because the nitrate concentration would limit the blending ratio, the city did not seek to implement a blending program, and the drinking water contingency was not considered further.

Characterization of Risk

A baseline risk assessment was prepared by the IDNR and modified by EPA. Risks were identified for exposure to groundwater from city wells based on groundwater data collected, and the risk was largely due to carbon tetrachloride. There is currently no exposure to groundwater and concentrations of contaminants have been shown in sampling data to be below state action levels and MCLs.

Response Actions

On September 28, 1995, the Farmers' Cooperative Elevator Association of Sheldon, Iowa, and IDNR entered into a Consent Order for the purpose of implementing the September 1992 ROD. The Consent Order required the Farmers' Cooperative Elevator Association to submit a monitoring plan for the groundwater monitoring and surface water monitoring required under the ROD. The purpose of the monitoring program was to track the magnitude and extent of agricultural chemicals and petroleum at the site and to determine the effectiveness of natural attenuation in reducing contaminant levels in groundwater.

The Groundwater and Surface Water Monitoring Plan was prepared by the responsible party in 1995, approved by IDNR, and required monitoring semi-annually for the first year and annually thereafter to include: (1) The groundwater monitoring of seven groundwater monitoring wells; (2) the surface water monitoring of the West Branch Floyd River at upstream and downstream locations; and (3) depth-to-water measurements in groundwater monitoring wells.

The award of the remedial action contract in 1995 provided for the initiation of the remedial action work by the responsible party. The responsible party conducted groundwater monitoring and surface water monitoring in January 1996, July 1996, November 1997, September 1998, September 1999, and October 2000 in accordance with the IDNR Consent Order.

Clean-Up Standards

The site was considered to be cleaned up and all requirements of the IDNR Consent Order satisfied when the groundwater monitoring revealed no exceedance of MCLs, or state action levels, for CERCLA contaminants of concern for three consecutive groundwater sampling events at least six months apart. This condition of the Consent Order has been met and the clean-up standards have been shown to be achieved.

Operations and Maintenance

The operation and maintenance and the groundwater and surface water monitoring at the site have been conducted by the responsible party in accordance with the IDNR Consent Order. The responsible party continues to own the property which is considered the site. In April 2000, IDNR agreed with the recommendation by the responsible party to discontinue groundwater monitoring for herbicides and abandon 12 groundwater monitoring wells. During October 2000, the abandonment of monitoring wells was conducted in accordance with Iowa Administrative Code 567, Chapter 39.

Five-Year Review

A statutory Five-Year Review Report was completed on September 7, 2000, pursuant to CERCLA 121 (c) and to Section 300.430(f)(4)(ii) of the National Oil and Hazardous Substances Contingency Plan (NCP). Contaminants of concern have been shown to be below drinking water standards. The remedy of natural attenuation has been shown to be effective. Due to the fact that CERCLA hazardous substances, pollutants, or contaminants no longer remain at the site above levels that allow for unrestricted use and unlimited exposure, another five-year review report is not required. The remedy continues to be protective of human health and the environment.

Community Involvement

Public participation activities have been satisfied as required in CERCLA section 113(k), 42 U.S.C. 9613(k), and CERCLA section 117, 42 U.S.C. 9617. Documents in the Deletion Docket which EPA relied on for recommendation of the deletion from the NPL are available to the public in the information repositories.

V. Deletion Action

The EPA, with concurrence of the state of Iowa, has determined that all appropriate responses under CERCLA have been completed, and that no further response actions, under CERCLA, are necessary. Therefore, EPA is deleting the site from the NPL.

Because EPA considers this action to be noncontroversial and routine, EPA is taking it without prior publication. This action will be effective November 13, 2001 unless EPA receives adverse comments by October 11, 2001. If adverse comments are received within the 30-day public comment period, EPA will publish a timely withdrawal of this direct final notice of deletion before the effective date of the deletion and it will not take effect and, EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and record keeping requirements, Superfund, Water pollution control, Water supply.

Dated: August 30, 2001.
William W. Rice,
Regional Administrator, U.S. EPA Region VII.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to Part 300 is amended under Iowa by removing the site name “Farmers’ Mutual Cooperative” and the city

“Hospers.”

[FR Doc. 01-22609 Filed 9-10-01; 8:45 am]

BILLING CODE 6560-50-P